DEPARTMENT OF ENERGY

Federal Energy Regulatory Commission

[Docket No. CP17-80-000]

Notice of Schedule for Environmental Review of the Eastern Panhandle Expansion Project; Columbia Gas Transmission, LLC

On March 15, 2017, Columbia Gas Transmission, LLC (Columbia) filed an application in Docket No. CP17-80-000 requesting a Certificate of Public Convenience and Necessity pursuant to Section 7(c) of the Natural Gas Act to construct and operate certain natural gas pipeline facilities. The proposed project is known as the Eastern Panhandle Expansion Project (Project), and would involve construction and operation of approximately 3.4 miles of 8-inch-diameter pipeline in Fulton County, Pennsylvania; Washington County, Maryland: and Morgan County, West Virginia.

On April 25, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—January 26, 2018

90-day Federal Authorization Decision Deadline—April 26, 2018

If a schedule change becomes necessary, additional notice will be provided so that the relevant agencies are kept informed of the Project's progress.

Project Description

Columbia proposes to construct, operate, and maintain the Project in three counties and states (Fulton County, Pennsylvania; Washington County, Maryland; and Morgan County, West Virginia). The Project would provide an additional 47.5 dekatherms per day (Dth/d) of capacity for firm transportation service to markets in West Virginia through Mountaineer Gas Company's (Mountaineer) gathering system. The Project will involve the construction and operation of approximately 3.4 miles of new greenfield 8-inch-diameter pipeline, three main line valves, and two new tie-in assemblies.

Background

On April 25, 2017, the Commission issued a Notice of Intent to Prepare an Environmental Assessment for the Proposed Eastern Panhandle Expansion Project and Request for Comments on Environmental Issues (NOI). The NOI was sent to affected landowners; federal, state, and local government agencies; elected officials; environmental and public interest groups; Native American tribes; other interested parties; and local libraries and newspapers. In response to the NOI, the Commission received comments from: the U.S. Army Corps of Engineers, the U.S. Department of Interior, National Park Service, Potomac Riverkeeper Network, Upper Potomac Riverkeeper, Waterkeepers Chesapeake, Allegheny Defense Project, West Virginia Rivers, 1,761 signatories from the Chesapeake Climate Action Network, and 115 concerned citizens from the region. The primary issues raised by the commentors are: Potential impacts on the Potomac River, karst features, groundwater quality, safety, climate change, and the Chesapeake and Ohio Canal National Historical Park.

The U.S. Department of Interior, National Park Service and the U.S. Environmental Protection Agency are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the eLibrary link, select General Search from the eLibrary menu, enter the selected date range and Docket Number excluding the last three digits (i.e., CP17-080), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: October 5, 2017.
Kimberly D. Bose,
Secretary.

[FR Doc. 2017-22000 Filed 10-11-17; 8:45 am]

BILLING CODE 6717-01-P